DEPARTMENT OF HOMELAND SECURITY

Coast Guard

33 CFR Part 117

[CGD01-06-139]

Drawbridge Operation Regulations; Shaw Cove, New London, CT

AGENCY: Coast Guard, DHS.

ACTION: Notice of temporary deviation from regulations.

SUMMARY: The Commander, First Coast Guard District, has issued a temporary deviation from the regulation governing the operation of the Amtrak Bridge across Shaw Cove, mile 0.0., at New London, Connecticut. Under this temporary deviation, an advance notice shall be required for bridge openings during designated bridge opening time periods each day from January 5, 2007 through March 30, 2007; however, bridge openings shall be provided at any time for DDLC Energy, if at least a 24-hour advance notice is given. This deviation is necessary to facilitate scheduled bridge maintenance.

DATES: This deviation is effective from January 5, 2007 through March 30, 2007.

ADDRESSES: Materials referred to in this document are available for inspection or copying at the First Coast Guard District, Bridge Branch Office, One South Street, New York, New York, 1004, between 7 a.m. and 3 p.m., Monday through Friday, except Federal holidays. The telephone number is (212) 668-7165. The First Coast Guard District Bridge Branch Office maintains the public docket for this temporary deviation.

FOR FURTHER INFORMATION CONTACT: Judy Leung-Yee, Project Officer, First Coast Guard District, at (212) 668-7195.

SUPPLEMENTARY INFORMATION: The Amtrak Bridge, across Shaw Cove at mile 0.0, at New London, Connecticut, has a vertical clearance in the closed position of 3 feet at mean high water and 6 feet at mean low water. The existing drawbridge operation regulations are listed in 33 CFR 117.223.

The owner of the bridge, the National Railroad Passenger Corporation, (Amtrak), requested a temporary deviation to facilitate scheduled bridge maintenance, replacement of the rail lifting equipment. The bridge will not be able to open while the bridge maintenance is underway.

The normal waterway users are predominantly recreational vessels that do not operate during the winter months this deviation will be in effect. The only oil facility, DDLC Energy, and the few local fishing vessel operators that operate during the winter were contacted regarding this deviation and have agreed to this temporary bridge opening schedule.

Under this temporary deviation, the Amtrak Bridge shall operate as follows:

The bridge shall open on signal from January 5, 2007 through February 23, 2007, between 5 a.m. and 5:20 a.m. and between 12:45 p.m. and 1:05 p.m., daily after at least a 4-hour advance notice is given.

From February 24, 2007 through February 25, 2007, the draw shall open at any time after at least an 8-hour advance notice is given.

The bridge shall open on signal from February 26, 2007 through March 30, 2007, between 5 a.m. and 5:20 a.m., 12:45 p.m. and 1:05 p.m. and between 5:15 p.m. and 5:35 p.m., daily after at least a 4-hour advance notice is given.

The bridge shall open at any time for DDLC Energy oil delivery vessels after at least a 24-hour advance notice is given.

The contact information for providing the advance notice for bridge openings shall be via marine radio channel 123 or by calling (860) 446-3959/3943.

In accordance with 33 CFR 117.35(c), this work will be performed with all due speed in order to return the bridge to normal operation as soon as possible.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

This deviation from the operating regulations is authorized under 33 CFR 117.35.

Dated: January 3, 2007.
Gary Kassof,
Bridge Program Manager, First Coast Guard District.

[FR Doc. E7-239 Filed 1-10-07; 8:45 am]

BILLING CODE 4910-15-P